DEPARTMENT OF HOUSING AND URBAN DEVELOPMENT

24 CFR Part 5

[Docket No. FR-5173-C-06]

RIN 2501-AD33

Affirmatively Furthering Fair Housing; Technical Correction

AGENCY: Office of the General Counsel, HUD.

ACTION: Final rule, technical correction.

SUMMARY: This document corrects a typographical error in HUD's final rule on Affirmatively Furthering Fair Housing, published on July 16, 2015.

DATES: Effective: August 17, 2015.

FOR FURTHER INFORMATION CONTACT: For further information about this technical correction, contact Camille E. Acevedo, Associate General Counsel for Legislation and Regulations, Office of General Counsel, Department of Housing and Urban Development, 451 7th Street SW., Room 10282, Washington, DC 20410-0500; telephone number 202-708-1793 (this is not a toll-free number). Persons who are deaf or hard of hearing and persons with speech impairments may access this number through TTY by calling the toll-free Federal Relay Service at 800-877-8339.

SUPPLEMENTARY INFORMATION: On July 16, 2015, at 42271, HUD published a final rule to provide HUD program participants with an approach to help them better incorporate into their planning processes the duty to affirmatively further the purposes and policies of the Fair Housing Act, so they can more effectively meet their long-standing fair housing obligations. Under this rule, recipients of HUD funds will prepare an Assessment of Fair Housing (AFH), developed in accordance with requirements provided in the rule, and will submit the AFH to HUD. In detailing submission requirements, the rule explains when different program participants must submit to HUD their first AFH. New regulatory § 5.160 contains submission deadlines for program participants to submit their first AFHs to HUD. Section 5.160(a)(1)(i)(C) in the final rule, which describes the deadline by when consolidated plan participants that are Insular Areas or States must submit their first AFH to HUD, inadvertently omitted the word “year” after “program” and omitted the word “plan” after the second occurrence of the word “consolidated.” Therefore, this document revises 24 CFR 5.160(a)(1)(i)(C) to include these two missing words.

Correction

Accordingly, FR Doc. 2015-17032, Affirmatively Furthering Fair Housing (FR-5173-F-04), published in the Federal Register on July 16, 2015 (80 FR 42271) is corrected as follows:

On page 42357, revise the first full paragraph in the third column, beginning on the third line of the column (24 CFR 5.160(a)(1)(i)(C)), to read as follows “(C) For consolidated plan participants that are Insular Areas or States, the program year that begins on or after January 1, 2018 for which a new consolidated plan is due, as provided in 24 CFR 91.15(b)(2); and”

Dated: July 29, 2015.
Camille E. Acevedo,
Association General Counsel for Legislation and Regulations.

[FR Doc. 2015-19214 Filed 8-4-15; 8:45 am]

BILLING CODE 4210-67-P